NUCLEAR REGULATORY COMMISSION

[Docket No. 50-263]

Nuclear Management Company, LLC; Notice of Consideration of Issuance of Amendment to Facility Operating License and Opportunity for a Hearing

The U.S. Nuclear Regulatory Commission (NRC or the Commission) is considering issuance of an amendment to Facility Operating License No. DPR-22 issued to the Nuclear Management Company, LLC (NMC or the licensee) for operation of the Monticello Nuclear Generating Plant (Monticello) located in Wright County, Minnesota.

The proposed amendment, requested by NMC in its application dated June 29, 2005, represents a full conversion from the Current Technical Specifications (CTS) to a set of Improved Technical Specifications (ITS) based on NUREG-1433, “Standard Technical Specifications General Electric Plants BWR/4,” Revision 3, dated April 2001. NUREG-1433 has been developed by the Commission's staff through working groups composed of NRC staff and industry representatives, and has been endorsed by the NRC staff as part of an industry-wide initiative to standardize and improve the Technical Specifications (TSs) for nuclear power plants. As part of this submittal, the licensee has applied the criteria contained in the Commission's “Final Policy Statement on Technical Specification Improvements for Nuclear Power Reactors (Final Policy Statement),” published in the Federal Register on July 22,1993 (58 FR 39132), to the CTS and using NUREG-1433 as a basis, proposed ITS for Monticello. The criteria in the Final Policy Statement was subsequently added to Title 10 of the Code of Federal Regulations (10 CFR), part 50.36, “Technical Specifications,” in a rule change that was published in the Federal Register on July 19, 1995 (60 FR 36953) and became effective on August 18, 1995.

This notice is based on the application dated June 29, 2005, and any information provided to the NRC through the Monticello ITS Conversion Web page. To expedite its application review, the NRC staff will issue requests for additional information (RAIs) through the Monticello ITS Conversion web page and the licensee will address the RAIs by providing responses on the Web page. Entry into the database is protected so that only designated licensee and NRC reviewers can enter information; however, the public can access the database to read the questions asked and the responses provided. To be in compliance with the regulations for written communications for license amendment requests and to have the database on the Monticello docket before the amendment would be issued, the licensee will provide a copy of the database in a submittal to the NRC after there are no further RAIs and before the amendment is to be issued.

The public can access the database through the NRC Internet home page at http://www.nrc.gov/reactors/operating/licensing/techspecs.html. Click on the link located near the bottom of the page titled “Improved Technical Specifications Data Base” to access the Excel Services Corporation ITS Licensing Databases. Click on “Monticello Nuclear Power Plant Licensing Database” to view comments and responses. The RAIs and responses are organized by ITS sections 1.0, 2.0, 3.0, 3.1 through 3.9, 4.0, and 5.0, and include beyond scope issues (BSIs) which are discussed later in this notice. For every ITS section or BSI, RAIs can be read by clicking on the applicable ITS Section. Licensee responses are indicated by a solid blue triangle below the ITS Number or, if accessing from the ITS Section, at the bottom of the page. To read a response, click on the triangle. To page down through the ITS sections, click on “Next” along the top or bottom of the page. Click on “Previous” to return to the previous page.

The licensee has categorized the proposed changes to the CTS into five general groupings within the description of changes (DOC) section of the application. These groupings are characterized as administrative changes (i.e., ITS x.x, DOC A.xx); more restrictive changes (i.e., ITS x.x, DOC M.xx); relocated specifications (i.e., ITS x.x, DOC R.xx); removed detail changes (i.e., ITS x.x, DOC LA.xx); and less restrictive changes (i.e., ITS x.x, DOC L.xx). The DOCs are numbered sequentially within each letter designator for each ITS Chapter, Section, or Specification, and the designations are A.xx for administrative changes, M.xx for more restrictive changes, R.xx for relocated specifications, LA.xx for removed detail changes, and L.xx for less restrictive changes.

Administrative changes involve restructuring, renumbering, rewording, interpretation and complex rearranging of requirements, and other changes not affecting technical content or substantially revising an operating requirement. The reformatting, renumbering and rewording process reflects the attributes of NUREG-1433 and does not involve technical changes to the CTS. The proposed changes include: (a) Poviding the appropriate numbers, etc., for NUREG-1433 bracketed information (information that must be supplied on a plant-specific basis, and which may change from plant to plant), (b) identifying plant-specific wording for system names, etc., and (c) changing NUREG-1433 section wording to conform to existing licensee practices. Such changes are administrative in nature and do not impact initiators of analyzed events or assumed mitigation of accident or transient events.

More restrictive changes invoke more stringent requirements compared to the CTS for facility operation. These more stringent requirements do not result in operation that will alter assumptions relative to the mitigation of an accident or transient event. The more restrictive requirements will not alter the operation of process variables, structures, systems, and components described in the safety analyses. For each requirement in the standard technical specification (STS) that is more restrictive than the CTS which the licensee proposes to adopt in the ITS, the licensee has provided an explanation as to why it concluded that adopting the more restrictive requirement is desirable to ensure safe operation of the facility because of specific plant design features.

Relocated changes involve relocating requirements and surveillances for structures, systems, components, or variables that do not meet the criteria for inclusion in TSs. Relocated changes are those CTS requirements that do not satisfy or fall within any of the four criteria specified in the 10 CFR 50.36(c) and, therefore, may be relocated to appropriate licensee-controlled documents. The licensee's application of the screening criteria is described in Enclosure 1 to the June 29, 2005, application. The affected structures, systems, components or variables are not assumed to be initiators of analyzed events and are not assumed to mitigate accident or transient events. The requirements and surveillances for these affected structures, systems, components, or variables will be relocated from the TSs to administratively-controlled documents such as the quality assurance program, the updated final safety analysis report (UFSAR), the ITS Bases, the Technical Requirements Manual that is incorporated by reference in the UFSAR, the core operating limits report, the offsite dose calculation manual, the inservice testing program, the inservice inspection program, or other licensee-controlled documents. Changes made to these documents will be made pursuant to 10 CFR 50.59 or other appropriate control mechanisms, and may be made without prior NRC review and approval. In addition, the affected structures, systems, components, or variables are addressed in existing surveillance procedures that are also subject to 10 CFR 50.59.

Removed detail changes to the CTSs eliminate detail and relocate the detail to a licensee-controlled document. Typically, this involves details of system design and function, or procedural detail on methods of conducting a surveillance requirement (SR). These changes are supported, in aggregate, by a single generic no significant hazard consideration. The generic type of removed detail change is identified in italics at the beginning of the DOC.

Less restrictive changes are those where CTS requirements are relaxed or eliminated, or new plant operational flexibility is provided. The “more significant” less restrictive requirements are justified on a case-by-case basis. When requirements have been shown to provide little or no safety benefit, their removal from the TSs may be appropriate. Relaxations previously granted to individual plants on a plant-specific basis were, in most cases, the result of (a) generic NRC actions, (b) new NRC staff positions that evolved from technological advancements and operating experience, or (c) resolution of the Owners Groups' comments on the Improved STSs. Generic relaxations contained in NUREG-1433 were reviewed by the NRC staff and found to be acceptable because they are consistent with current licensing practices and NRC regulations. The licensee's design is being reviewed to determine if the specific design-basis and licensing basis are consistent with the technical basis for the model requirements in NUREG-1433, thus providing a basis for the ITS, or if relaxation of the requirements in the CTS is warranted based on the justification provided by the licensee.

These administrative, relocated, more restrictive, and less restrictive changes to the requirements of the CTS do not result in operations that will alter assumptions relative to mitigation of an analyzed accident or transient event.

There are also changes proposed that are different from the requirements in both the CTSs and the STSs of NUREG-1433. These are designated as BSIs and are discussed below. The first 15 BSIs were identified by the licensee and described in Enclosure 2 of their application. In some cases, a BSI may be addressed as a justification for deviation (JFD) from the STS, and identified as ITS x.x, JFD x. The BSIs to the conversion, listed in the order of the applicable ITS specification or section, are as follows:

1. CTS 3.1.A refers to the “Setpoints” of the Reactor Protection System (RPS) Instrumentation Functions in CTS Table 3.1.1 and CTS Table 3.1.1, and specifies the “Limiting Trip Settings” for the RPS Instrumentation Functions. The Limiting Trip Settings of CTS Table 3.1.1 Trip Functions 3.a, 4.a, and 4.c have been modified to reflect new “Allowable Values” as indicated for ITS Table 3.3.1.1-1 Functions 1.a and 2.a. This changes the CTS by requiring RPS Instrumentation to be set consistent with the new Allowable Values. (ITS 3.3.1.1, DOC L.12)

2. CTS Table 4.1.1 requires a weekly functional test of the Manual Scram Function. ITS Table 3.3.1.1-1 Function 11 and ITS SR 3.3.1.1.5 require the performance of the same test at a 31-day frequency. This changes the CTS by extending the Manual Scram functional test frequency from 7 days to 31 days. (ITS 3.3.1.1, DOC L.14)

3. CTS Table 3.2.5 specifies the “Trip Setting” for the Anticipated Transient Without Scram-Recirculation Pump Trip High Reactor Dome Pressure Function. The Trip Setting of CTS Table 3.2.5 Function 1 has been modified to reflect the new less restrictive Allowable Value as indicated in ITS SR 3.3.4.1.5.b (ITS 3.3.4.1, DOC L.4)

4. CTS Table 3.2.2 specifies the “Trip Setting” for Emergency Core Cooling System (ECCS) Instrumentation Functions. The Trip Setting of CTS 3.2.2 Function C.3 has been modified to reflect new more restrictive Allowable Values as indicated for ITS Table 3.3.5.1-1 Functions 4.c, 4.d, 5.c and 5.d. (ITS 3.3.5.1, DOC M.8)

5. CTS Table 3.2.2 and Table 3.2.8 specify the “Trip Setting” for ECCS Instrumentation Functions. The Trip Settings of CTS Table 3.2.2 Functions A.1.b.i and A.2, and Table 3.2.8 Function C.1 have been modified to reflect new less restrictive Allowable Values as indicated for ITS Table 3.3.5.1-1 Functions 1.c, 1.d, 2.c, 2.d, and 3.d. In addition, the Allowable Value for ITS Table 3.3.5.1-1 Function 3.d only specifies a single Allowable value, which is applicable for both one- and two-tank operation. (ITS 3.3.5.1, DOC L.5)

6. CTS Table 3.2.8 specifies the “Trip Setting” for the Condensate Storage Tank Level—Low for two tank and one tank operation. The Trip Settings of CTS Table 3.2.8 Function C.1 have been modified to reflect a new less restrictive Allowable Value as indicated for ITS Table 3.3.5.2-1 Function 3. In addition, the Allowable Value for this Function only specifies a single Allowable Value, which is applicable for both one- and two-tank operation. (ITS 3.3.5.2, DOC L.3)

7. CTS Table 3.2.1 specifies the “Trip Settings” for the Primary Containment Isolation Instrumentation. The Trip Settings of CTS Table 3.2.1 Functions 3.d, 4.a, 4.b, 4.c, and 5.b have been modified to reflect more restrictive Allowable Values as indicated in ITS Table 3.3.6.1-1 Function 3.a, 3.b, 3.c, 4.c, and 5.a. (ITS 3.3.6.1, DOC M.9)

8. CTS Table 3.2.1 specifies the “Trip Settings” for the Primary Containment Isolation Instrumentation. The Trip Settings of CTS Table 3.2.1 Functions 1.b, 1.d, 5.a, 5.c, and 6.a have been modified to reflect new less restrictive Allowable Values as indicated in ITS Table 3.3.6.1-1 Functions 1.b, 1.c, 4.a, 4.b, and 6.a. (ITS 3.3.6.1, DOC L.9)

9. CTS Table 3.2.6 specifies the “Trip Settings” for the Loss of Power Instrumentation. The Trip Setting of CTS Table 3.2.6 Function 1 has been modified to reflect new more restrictive Allowable Values as indicated for ITS Table 3.3.8.1-1 Functions 2.a and 2.b. (ITS 3.3.8.1, DOC M.3)

10. CTS 3.2.C.2.b states that the Rod Block Monitor (RBM) bypass time delay must be less than or equal to 2.0 seconds. ITS 3.3.2.1 does not require the RBM bypass time delay to be OPERABLE. This changes the CTS by deleting the RBM bypass time delay requirements. (ITS 3.3.2.1, DOC L.5)

11. CTS 4.14 does not provide a delayed entry into associated Conditions and Required Actions if a Post-Accident Monitoring (PAM) channel is inoperable solely for performance of required surveillances. ITS SR Note 2 has been added to allow delayed entry into associated Conditions and Required Actions for up to 6 hours if a PAM channel is placed in an inoperable status solely for performance of required surveillances, provided the associated function remains capable. This changes the CTS by providing a delay time to enter Conditions and Required Actions for a PAM channel placed in an inoperable status solely for performance of required surveillances. (ITS 3.3.3.1, DOC L.2)

12. CTS 4.1.C.2 requires an instrument calibration of each RPS power monitoring channel every “Operating Cycle.” ITS SR 3.3.8.2.2 requires the performance of a CHANNEL CALIBRATION of the overvoltage, undervoltage, and underfrequency setpoints every 184 days. This changes the CTS by increasing the frequency of performing a CHANNEL CALIBRATION of the overvoltage, undervoltage, and underfrequency setpoints. (ITS 3.3.8.2, DOC M.3)

13. CTS 4.5.F.1 provides a cross-reference to the SRs in CTS 4.6.G. However, these are jet pump surveillances and reflect stability monitoring issues. ITS SR 3.4.1.2 requires verification of operation in the Normal Region of the power-to-flow map every 24 hours or in the Stability Buffer Region of the power-to-flow map, with power distribution controls as specified in the Core Operating Limits Report, every 24 hours. This changes the CTS by deleting the cross references to the SRs in CTS 4.6.G and adds a new SR. (ITS 3.4.1, DOC M.1)

14. CTS 6.8.B includes the Primary Coolant Sources Outside Containment program requirements. The Combustible Gas Control System (CGCS) is included in this program. ITS 5.5.2 includes the same program requirements for the Primary Coolant Sources Outside Containment program, except the CGCS will not be included. This changes the CTS by deleting the program requirement for the CGCS in the Primary Coolant Sources Outside Containment program. (ITS 5.5, DOC L.4)

15. CTS 6.8.B.2 specifies that the integrated leak test requirements for each system outside containment that could contain highly radioactive fluids during a serious transient or accident must be performed at a refueling cycle or less. CTS 6.8.B also states that CTS 4.0.B (i.e. a 25 percent allowable grace period) is applicable. ITS 5.5.2.b specifies that the same test must be performed at least once per 24 months and that the provisions of ITS SR 3.0.2 (25 percent allowable grace period) are applicable. This changes the CTS by extending the frequency of the surveillance from 18 months to 24 months, with a maximum of 30 months accounting for the allowable grace period. (ITS 5.5, DOC L.5)

Before issuance of the proposed license amendment, the Commission will have made findings required by the Atomic Energy Act of 1954, as amended (the Act) and the commission's regulations.

Within 60 days after the date of publication of this notice, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR part 2. Interested persons should consult a current copy of 10 CFR 2.309, which is available at the Commission's Public Document Room (PDR), located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particu larity the interest of the petitioner/requestor in the proceeding, and how that interest may be affected by the results of the proceeding. The petition should specifically explain the reasons why intervention should be permitted with particular reference to the following general requirements: (1) The name, address and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

Non-timely requests and/or petitions and contentions will not be entertained absent a determination by the Commission or the presiding officer of the Atomic Safety and Licensing Board that the petition, request and/or the contentions should be granted based on a balancing of the factors specified in 10 CFR 2.309(a)(1)(i)-(viii).

A request for a hearing or a petition for leave to intervene must be filed by: (1) First class mail addressed to the Office of the Secretary of the Commission, U.S. Nuclear Regulatory Commission, Washington, DC 20555-0001, Attention: Rulemaking and Adjudications Staff; (2) courier, express mail, and expedited delivery services: Office of the Secretary, Sixteenth Floor, One White Flint North, 11555 Rockville Pike, Rockville, Maryland, 20852, Attention: Rulemaking and Adjudications Staff; (3) E-mail addressed to the Office of the Secretary, U.S. Nuclear Regulatory Commission, HEARINGDOCKET@NRC.GOV; or (4) facsimile transmission addressed to the Office of the Secretary, U.S. Nuclear Regulatory Commission, Washington, DC, Attention: Rulemakings and Adjudications Staff at (301) 415-1101, verification number is (301) 415-1966. A copy of the request for hearing and petition for leave to intervene should also be sent to the Office of the General Counsel, U.S. Nuclear Regulatory Commission, Washington, DC 20555-0001, and it is requested that copies be transmitted either by means of facsimile transmission to 301-415-3725 or by e-mail to OGCMailCenter@nrc.gov. A copy of the request for hearing and petition for leave to intervene should also be sent Jonathan Rogoff, Esq., 700 First Street, Hudson, WI 54016, attorney for the licensee.

For further details with respect to this action, see the licensee's application for amendment dated June 29, 2005, and the Monticello ITS Conversion Web page (as discussed above). Documents may be examined, and/or copied for a fee at the Commission's PDR, located at One White Flint North, Public File Area O1 F21, 11555 Rockville Pike (first floor), Rockville, Maryland. Publicly available records will be accessible electronically from the Agencywide Documents Access and Management System's (ADAMS) Public Electronic Reading Room on the Internet at the NRC Web site, http://www.nrc.gov/reading-rm/adams.html. Persons who do not have access to ADAMS or who encounter problems in accessing the documents located in ADAMS, should contact the NRC PDR Reference staff by telephone at 1-800-397-4209, 301-415-4737, or by e-mail to pdr@nrc.gov.

Dated at Rockville, Maryland, this 16th day of November, 2005.
For the Nuclear Regulatory Commission.
John F. Stang,
Sr. Project Manager, Plant Licensing Branch III-1, Division of Operating Reactor Licensing, Office of Nuclear Reactor Regulation.

[FR Doc. E5-6451 Filed 11-22-05; 8:45 am]

BILLING CODE 7590-01-P